DEPARTMENT OF COMMERCE

International Trade Administration

[A-549-822]

Certain Frozen Warmwater Shrimp From Thailand: Notice of Court Decision Not in Harmony With Final Results of Administrative Review and Notice of Amended Final Results of Administrative Review Pursuant to Court Decision

AGENCY: Import Administration, International Trade Administration, Department of Commerce.

SUMMARY: On April 26, 2011, the United States Court of International Trade (CIT) sustained the Department of Commerce's (the Department's) results of redetermination pursuant to the CIT's remand order in Ad Hoc Shrimp Trade Action Committee v. United States, 675 F. Supp. 2d 1287 (CIT 2010). The Department is notifying the public that the final CIT judgment in this case is not in harmony with the Department's final results and is amending the final results of the administrative review of the antidumping duty order on certain frozen warmwater shrimp from Thailand covering the period of review (POR) of February 1, 2006, through January 31, 2007.

DATES: Effective Date: May 6, 2011.

FOR FURTHER INFORMATION CONTACT: Kate Johnson, AD/CVD Operations, Office 2, Import Administration—International Trade Administration, U.S. Department of Commerce, 14th Street and Constitution Avenue, NW., Washington, DC, 20230; telephone (202) 482-4929.

SUPPLEMENTARY INFORMATION:

Background

On August 29, 2008, the Department published its final results in the antidumping duty administrative review of certain frozen warmwater shrimp from Thailand covering the POR of February 1, 2006, through January 31, 2007. See Certain Frozen Warmwater Shrimp from Thailand: Final Results and Final Partial Rescission of Antidumping Duty Administrative Review, 73 FR 50933 (August 29, 2008) (Final Results). In the Final Results, the Department determined that the Rubicon Group ¹ was not entitled to a constructed export price (CEP) offset. On October 24, 2008, the Rubicon Group filed a complaint with the Court challenging the Department's determination that the Rubicon Group was not entitled to a CEP offset. On July 17, 2009, the Department requested a voluntary remand to reconsider and further explain the CEP offset issue. On December 29, 2009, the Court granted the Department's request to reconsider and further explain its decision as to whether the Rubicon Group is entitled to a CEP offset. On June 18, 2010, the Department issued its final results of redetermination. See Final Results of Redetermination Pursuant to Court Remand, dated June 18, 2010 (Remand Results) (available at http://ia.ita.doc.gov/remands). The remand redetermination explained that, pursuant to the Court's remand order, the Department reconsidered the CEP offset issue with respect to the Rubicon Group and determined that the Rubicon Group was entitled to a CEP offset adjustment to normal value in the 2006-2007 administrative review. On April 26, 2011, the CIT sustained the Remand Results. See Andaman Seafood Co., Ltd. et al. v. United States, Court No. 08-00330, Slip Op. 11-46 (April 26, 2011).

¹ This group is comprised of the following companies: Andaman Seafood Co., Ltd., Chanthaburi Frozen Food Co., Ltd., Chanthaburi Seafoods Co., Ltd., Phatthana Seafood Co., Ltd., Phatthana Frozen Food Co., Ltd., Thailand Fishery Cold Storage Public Co., Ltd., Thai International Seafood Co., Ltd., and Rubicon Resources, LLC (collectively, the Rubicon Group).

Timken Notice

Consistent with the decision of the United States Court of Appeals for the Federal Circuit (CAFC) in Timken Co. v. United States, 893 F. 2d 337 (CAFC 1990) (Timken), as clarified by Diamond Sawblades Mfrs. Coalition v. United States, 626 F. 3d 1374 (CAFC 2010), pursuant to section 516A(c) of the Tariff Act of 1930, as amended (the Act), the Department must publish a notice of a court decision that is not “in harmony” with a Department determination and must suspend liquidation of entries pending a “conclusive” court decision. The CIT's April 26, 2011, judgment sustaining the Department's Remand Results with respect to the Rubicon Group constitutes a final decision of that court that is not in harmony with the Departments Final Results. This notice is published in fulfillment of the publication requirements of Timken. Accordingly, the Department will continue the suspension of liquidation of the subject merchandise pending the expiration of the period of appeal or, if appealed, pending a final and conclusive court decision.

Amended Final Results

Because there is now a final court decision with respect to the Rubicon Group, the Department amends its Final Results, and the weighted-average margin for the Rubicon Group for the period February 1, 2006, through January 31, 2007, is 3.00 percent.

In the event the CIT's ruling is not appealed or, if appealed, upheld by the CAFC, the Department will instruct U.S. Customs and Border Protection to assess antidumping duties on entries of the subject merchandise exported during the POR from the Rubicon Group based on the revised assessment rates calculated by the Department.

This notice is issued and published in accordance with sections 516A(c)(1), 751(a)(1), and 777(i)(1) of the Act.

Dated: May 2, 2011.
Ronald K. Lorentzen,
Deputy Assistant Secretary for Import Administration.

[FR Doc. 2011-11119 Filed 5-5-11; 8:45 am]

BILLING CODE 3510-DS-P